NATIONAL AERONAUTICS AND SPACE ADMINISTRATION

[05-175]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Mr. Walter Kit, Reports Officer, Office of the Chief Information Officer, Mail Suite JA000, National Aeronautics and Space Administration, Washington, DC 20546-0001.

FOR FURTHER INFORMATION CONTACT: Requests for additional information or copies of the information collection instrument(s) and instructions should be directed to Mr. Walter Kit, Reports Officer, Office of the Chief Information Officer, NASA Headquarters, 300 E Street SW., Mail Suite JA000, Washington, DC 20546, (202) 358-1350, walter.kit-1@nasa.gov.

SUPPLEMENTARY INFORMATION:

I. Abstract

NASA Science Files is an educational resource for middle school teachers. Feedback from educators will help the NASA Center for Distance Learning to modify and adjust this resource to meet the needs of educators.

II. Method of Collection

This is an electronic survey that is attached to an e-mail requesting the educator to complete and return the survey.

III. Data

Title: NASA Science Files.

OMB Number: 2700-.

Type of Review: New Collection.

Affected Public: State, Local, or Tribal Government, or Not-for-profit institutions.

Estimated Number of Respondents: 11,525.

Total Annual Responses: 300.

Estimated Time Per Response: .75 hr.

Estimated Total Annual Burden Hours: 225.

Estimated Total Annual Cost: $0.

IV. Requests for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Patricia L. Dunnington,
Chief Information Officer.

[FR Doc. E5-7733 Filed 12-22-05; 8:45 am]

BILLING CODE 7510-13-P